DEPARTMENT OF ENERGY

Federal Energy Regulatory Commission

[Project No. 13559-000]

Hydro Power 101, LLC; Notice of Preliminary Permit Application Accepted for Filing and Soliciting Comments, Motions To Intervene, and Competing Applications

August 20, 2009.

On July 22, 2009, Hydro Power 101, LLC filed an application, pursuant to section 4(f) of the Federal Power Act (FPA), proposing to study the feasibility of the Tacony Project No. 13559, to be located in the Delaware River in the City of Philadelphia, Philadelphia County, Pennsylvania.

The proposed Tacony Project would be located in an area of the Delaware River just upstream of the Tacony-Palmyra bridge (State Route 73) and would consist of: (1) Up to 150 20-kilowatt (kW) underwater turbine generators with a total capacity of 3,000 kW attached to either pilings in the river bottom, or moored to shore structures; (2) a new 69-kilovolt, 1,200-foot-long transmission line; and (3) appurtenant facilities. The project would have an estimated annual generation between 4,000 and 5,000 megawatt-hours.

Applicant Contact: Mr. Jeremy Conner, 3000 Atrium Way, Suite 261, Mt. Laurel, NJ 08054, (856) 273-5761.

FERC Contact: Tom Dean, (202) 502-6041.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13559) in the docket number field to access the document. For assistance, call toll-free 1-866-208-3372.

Kimberly D. Bose,
Secretary.

[FR Doc. E9-20647 Filed 8-26-09; 8:45 am]

BILLING CODE 6717-01-P